DEPARTMENT OF TRANSPORTATION

Federal Highway Administration

[FHWA Docket No. FHWA-2016-0020]

Productive and Timely Expenditure of Funds

AGENCY: Federal Highway Administration (FHWA), U.S. Department of Transportation.

ACTION: Notice.

SUMMARY: This notice announces the FHWA website, “FAST Act Section 1421—Programmatic Approaches to Project Delivery,” where information and guidance on improving project delivery is consolidated to encourage implementation of approaches, techniques, and best practices to facilitate the productive, effective, and timely expenditure of title 23, United States Code, funds. Consistent implementation of the information and guidance provided on the website will serve to assist Federal-aid recipients in effectively using Federal funds by avoiding unnecessary, costly project delays and minimizing project cost overruns.

DATES: The date of this notice is December 19, 2017.

FOR FURTHER INFORMATION CONTACT: Mr. Gerald Yakowenko, FHWA Office of Program Administration, 202-366-1562, or via email at gerald.yakowenko@dot.gov. For legal questions, please contact Mr. Jomar Maldonado, FHWA Office of the Chief Counsel, 202-366-1373, or via email at jomar.maldonado@dot.gov. Office hours for the FHWA are from 8:00 a.m. to 4:30 p.m., ET, Monday through Friday, except Federal holidays.

SUPPLEMENTARY INFORMATION:

Electronic Access

An electronic copy of this document may be downloaded from the Federal Register's home page at: http://www.archives.gov and the Government Publishing Office's Federal Digital System at: http://www.fdsys.gov.

Background

On August 30, 2016, at 81 FR 59717, FHWA published a notice and request for comments to identify any readily available information resources on programmatic approaches to improve project delivery through avoidance of unnecessary delays, and minimizing of cost overruns in compliance with the Section 1421 of the Fixing America's Surface Transportation (FAST) Act. To comply with Section 1421, “Productive and Timely Expenditure of Funds,” FHWA developed a test website where sample information resources on programmatic agreements, approaches, techniques, and best practices were consolidated for ease of access, and to encourage and ensure consistent implementation. The test website was used for illustrative purpose to obtain input from commenters on the content to be included on the final website.

Discussion of Comments

I. Summary

All comments received in response to the initial notice and request for comments have been considered in adopting this final notice. Comments were received from one representative of the Maryland Department of Transportation State Highway Administration (MDOT SHA). The following discussion identifies and summarizes the comments submitted by the commenter in response to the August 30, 2016, notice, as well as FHWA's response to those comments.

II. Analysis of and Response to Comments on the Test Website

Comment 1: A representative of MDOT SHA recommended adding a number of Maryland-specific information on programmatic agreements, procedures, and memorandum of agreements to the FAST Act Section 1421 website.

FHWA's Response 1: The comments provided by MDOT SHA were State-specific, not national; therefore, FHWA did not incorporate those comments into the final FAST Act Section 1421 website. Since the August 30, 2016, notice, FHWA has developed an Environmental Review Toolkit website that included information on programmatic agreements and approaches to accelerate project delivery. State-specific resources could be provided on the FHWA State Practice Database accessed from the Environmental Review Toolkit website, or directly at: https://www.environment.fhwa.dot.gov/strmlng/es3stateprac.asp.

Comment 2: The MDOT SHA recommended including the U.S. Fish and Wildlife Service planning tool, “IPaC Information for Planning and Consultation,” for streamlining the environmental review process.

FHWA's Response 2: The FHWA agrees with the commenter and will add the U.S. Fish and Wildlife Service planning tool to the final FAST Act Section 1421 website.

Final FAST Act Section 1421 Website

The FHWA established the test FHWA website, “FAST Act Section 1421—Programmatic Approaches to Project Delivery,” for notice and public comment on August 30, 2016. After considering all the comments, FHWA has incorporated appropriate revisions into the final FAST Act Section 1421 website. As such, the final FHWA FAST Act Section 1421 website can be found at: http://www.fhwa.dot.gov/construction/contracts/section1421.cfm.

Issued on: December 12, 2017.
Brandye L. Hendrickson,
Acting Administrator, Federal Highway Administration.

[FR Doc. 2017-27270 Filed 12-18-17; 8:45 am]

BILLING CODE P